DEPARTMENT OF STATE

[Public Notice 3573]

Universal Postal Union Reform Initiatives

ACTION: Notice of briefing.

The Department of State will host a briefing on Thursday, March 15, 2001, to provide an update on reform initiatives at the Universal Postal Union (UPU).

The briefing will be held from 2:00 p.m. until approximately 4:00 p.m., on March 15, 2001, in Room 1205 of the Department of State, 2201 C Street, NW., Washington, DC. The briefing will be open to the public up to the capacity of the meeting room.

The briefing will provide information on the results of the recent meetings of the High-Level Group on the Future of the UPU, and of other significant UPU-related issues. The briefing will be chaired by Ambassador E. Michael Southwick of the Department of State.

Entry to the Department of State building is controlled and will be facilitated by advance arrangements. In order to arrange admittance, persons desiring to attend the briefing should, no later than noon on March 13, 2001, notify the Office of Technical and Specialized Agencies, Bureau of International Organization Affairs, Department of State, preferably by fax, providing the name of the meeting and the individual's name, Social Security number, date of birth, professional affiliation, address and telephone number. The fax number to use is (202) 647-8902. Voice telephone is (202) 647-2752. This request applies to both government and non-government individuals.

All attendees must use the Department of State diplomatic entrance at 22nd and C Streets, NW. One of the following means of identification will be required for admittance: Any U.S. driver's license with photo, a passport, or any U.S. Government agency identification card.

Questions concerning the briefing may be directed to Mr. Neil Boyer at (202) 647-2752 or via email at n.boyer@state.gov.

Dated: February 6, 2001.
Lynne F. Lambert,
Director, Office of Technical and Specialized Agencies, Bureau of International Organization Affairs, Department of State.

[FR Doc. 01-4669 Filed 2-23-01; 8:45 am]

BILLING CODE 4710-19-P